DEPARTMENT OF ENERGY

Federal Energy Regulatory Commission

[Project No. 1864-164]

Upper Peninsula Power Company; Notice of Application Accepted for Filing, Soliciting Motions To Intervene, Protests, and Comments

Take notice that the following hydroelectric application has been filed with the Commission and is available for public inspection:

a. Type of Application: Amendment to License.

b. Project No: 1864-164.

c. Date Filed: June 14, 2012; supplemented September 26, 2012.

d. Applicant: Upper Peninsula Power Company.

e. Name of Project: Bond Falls Hydroelectric Project.

f. Location: On the Ontonagon River in Ontonagon and Gogebic Counties, Michigan, and Vilas County, Wisconsin, and partially on lands within the Ottawa National Forest.

g. Filed Pursuant to: Federal Power Act, 16 U.S.C. 791(a)-825(r).

h. Applicant Contact: Terry Jensky, Vice President, Generation Assets, Wisconsin Public Service Corporation, 700 North Adams Street, P.O. Box 19002, Green Bay, Wisconsin 54307.

i. FERC Contact: Kurt Powers at (202) 502-8949; or kurt.powers@ferc.gov.

j. Deadline for filing motions to intervene, protests, and comments is 30 days from the issuance date of this notice.

All documents may be filed electronically via the Internet. See 18 CFR 385.2001(a)(1)(iii) and the instructions on the Commission's Web site at http://www.ferc.gov/docs-filing/efiling.asp. If unable to be filed electronically, documents may be paper-filed. To paper-file, an original and seven copies should be mailed to: The Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-1864-164) on any motions, protests, or comments filed.

k. Description of Application: The licensee proposes to, in part, remove the Cisco Development from the Bond Falls Hydroelectric Project license. The Cisco Dam and its chain of lakes would be removed from the project license and would no longer be under the Commission's jurisdiction. All lands associated with the development, including about 157.56 acres of U.S. Forest Service lands, would be removed from the project boundary and would no longer be subject to the terms and conditions in the license.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call (866) 208-3676 or email FERCOnlineSupport@ferc.gov, for TTY, call (202) 502-8659. A copy is also available for inspection and reproduction at the address in item (h) above.

m. Individuals desiring to be included on the Commission's mailing list should so indicate by writing to the Secretary of the Commission.

n. Motions to Intervene, Protests, and Comments: Anyone may submit a motion to intervene, protest, or comments in accordance with the requirements of Rules of Practice and Procedure, 18 CFR 385.210, .211, .214. In determining the appropriate action to take, the Commission will consider all protests or other comments filed, but only those who file a motion to intervene in accordance with the Commission's Rules may become a party to the proceeding. Any motions to intervene, protests, or comments must be received on or before the specified comment date for the particular application.

o. Filing and Service of Responsive Documents: Any filing must: (1) Bear in all capital letters the title “MOTION TO INTERVENE,” “PROTEST,” or “COMMENTS” as applicable; (2) set forth in the heading the name of the applicant and the project number of the application to which the filing responds; (3) furnish the name, address, and telephone number of the person intervening, protesting, or commenting; and (4) otherwise comply with the requirements of 18 CFR 385.2001 through 385.2005. All motions to intervene, protests, or comments must set forth their evidentiary basis and otherwise comply with the requirements of 18 CFR 4.34(b). All motions to intervene, protests, or comments should relate to project works which are the subject of the application. Agencies may obtain copies of the application directly from the applicant. A copy of any motion to intervene or protest must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: October 12, 2012.
Kimberly D. Bose,
Secretary.

[FR Doc. 2012-25685 Filed 10-18-12; 8:45 am]

BILLING CODE 6717-01-P